DEPARTMENT OF TRANSPORTATION

Surface Transportation Board

[Docket No. FD 35739]

BNSF Railway Company—Temporary Trackage Rights Exemption—Union Pacific Railroad Company

Union Pacific Railroad Company (UP), pursuant to a written trackage rights agreement dated May 16, 2013, has agreed to grant temporary overhead trackage rights to BNSF Railway Company (BNSF) over: (1) UP's Black Butte Subdivision, between UP milepost 427.4 at Klamath Falls, Or., and UP milepost 321.4 at Dunsmuir, Cal.; and (2) UP's Valley Subdivision, between UP milepost 321.4 at Dunsmuir, Cal., and UP milepost 141.8 at Marysville, Cal., a total distance of 285.6 miles.

The transaction may be consummated on or after June 16, 2013, the effective date of the exemption (30 days after the verified notice of exemption was filed). The temporary trackage rights are scheduled to expire on June 23, 2013. The purpose of the temporary trackage rights is to permit BNSF to facilitate maintenance work on BNSF rail lines.

As a condition to this exemption, any employees affected by the acquisition of the trackage rights will be protected by the conditions imposed in Norfolk and Western Railway—Trackage Rights—Burlington Northern, Inc., 354 I.C.C. 605 (1978), as modified in Mendocino Coast Railway, Inc.—Lease and Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If it contains false or misleading information, the exemption is void ab initio. Petitions to revoke the exemption under 49 U.S.C. 10502(d) may be filed at any time. The filing of a petition to revoke will not automatically stay the effectiveness of the exemption. Petitions for stay must be filed no later than June 7, 2013 (at least 7 days before the exemption becomes effective).

An original and 10 copies of all pleadings, referring to Docket No. FD 35739, must be filed with the Surface Transportation Board, 395 E Street SW., Washington, DC 20423-0001. In addition, a copy of each pleading must be served on Karl Morell, Ball Janik LLP, 655 Fifteenth Street NW., Suite 225, Washington, DC 20005.

Board decisions and notices are available on our Web site at “www.stb.dot.gov.”

Decided: May 24, 2013.
By the Board, Rachel D. Campbell, Director, Office of Proceedings.
Raina S. White,
Clearance Clerk.

[FR Doc. 2013-12939 Filed 5-30-13; 8:45 am]

BILLING CODE 4915-01-P